NATIONAL SCIENCE FOUNDATION

Special Emphasis Panel in Civil and Mechanical Systems; Notice of Meeting

In accordance with the Federal Advisory Committee Act (Pub. L. 92-463, as amended), the National Science Foundation announces the following meeting:

Name: Special Emphasis Panel in Civil and Mechanical Systems (1205)

Date/Time: March 20, 2000 and March 21, 2000, 8:00 a.m. to 5:00 p.m.

Place: NSF, 4201 Wilson Boulevard, Room 365, Arlington, Virginia 22230.

Type of Meeting: Closed.

Contact Person: Dr. Alison Flatau, Program Director, Dynamic Systems and Control, Sensor Technologies for Civil and Mechanical Systems, National Science Foundation, 4201 Wilson Boulevard, Room 545 Arlington, VA. (703) 306-1361.

Purpose of Meeting: To provide advice and recommendations concerning proposals submitted to NSF for financial support.

Agenda: To review and evaluate nominations for the FY'00 Sensor Technologies for Civil and Mechancial Systems Review Panel proposals as part of the selection process for awards.

Reason For Closing: The proposals being reviewed include information of a proprietary or confidential nature, including technical information; financial data, such as salaries and personal information concerning individuals associated with the proposals. These matters are exempt under 5 U.S.C. 552b(c) (4) and (6) of the Government in the Sunshine Act.

Dated: February 10, 2000.
Karen J. York,
Committee Management Officer.

[FR Doc. 00-3538 Filed 2-14-00; 8:45 am]

BILLING CODE 7555-01-M